DEPARTMENT OF AGRICULTURE

Animal and Plant Health Inspection Service

[Docket No. APHIS-2019-0034]

Oral Rabies Vaccine Program; Availability of a Supplemental Environmental Assessment

AGENCY: Animal and Plant Health Inspection Service, USDA.

ACTION: Notice of availability and request for comments.

SUMMARY: We are advising the public that the Animal and Plant Health Inspection Service has prepared a supplemental environmental assessment (EA) relative to a 2019 EA of an oral rabies vaccination (ORV) program in Maine, New Hampshire, New York, Ohio, Tennessee, Texas, Vermont, Virginia, and West Virginia. This supplement analyzes the proposed expanded use of ONRAB vaccine-baits throughout the ORV distribution zone in Pennsylvania in cooperation with the U.S. Department of Agriculture's Forest Service. We are making the supplemental EA available to the public for review and comment.

DATES: We will consider all comments that we receive on or before August 6, 2021.

ADDRESSES: You may submit comments by either of the following methods:

• Federal eRulemaking Portal: Go to www.regulations.gov. Enter APHIS-2019-0034 in the Search field. Select the Documents tab, then select the Comment button in the list of documents.

• Postal Mail/Commercial Delivery: Send your comment to Docket No. APHIS-2019-0034, Regulatory Analysis and Development, PPD, APHIS, Station 3A-03.8, 4700 River Road, Unit 118, Riverdale, MD 20737-1238.

The supplemental environmental assessment and any comments we receive on this docket may be viewed at www.regulations.gov or in our reading room, whichis located in Room 1620 of the USDA South Building, 14th Street and Independence Avenue SW, Washington, DC. Normal reading room hours are 8 a.m. to 4:30 p.m., Monday through Friday, except holidays. To be sure someone is there to help you, please call (202) 799-7039 before coming.

This notice and the supplemental environmental assessment are also posted on the APHIS website at http://www.aphis.usda.gov/regulations/ws/ws_nepa_environmental_documents.shtml.

FOR FURTHER INFORMATION CONTACT: Mr. Richard Chipman, Rabies Program Coordinator, Wildlife Services, APHIS, 59 Chenell Drive, Suite 2, Concord, NH 03301; (603) 223-9623. To obtain copies of the supplemental environmental assessment, contact Ms. Beth Kabert, Environmental Coordinator, Wildlife Services, APHIS, 59 Chenell Drive, Suite 2, Concord, NH 03301; (908) 442-6761; email: beth.e.kabert@usda.gov.

SUPPLEMENTARY INFORMATION:

Background

The Wildlife Services (WS) program in the Animal and Plant Health Inspection Service (APHIS) cooperates with Federal agencies, State and local governments, and private individuals to research and implement the best methods of managing conflicts between wildlife and human health and safety, agriculture, property, and natural resources. Wildlife-borne diseases that can affect domestic animals and humans are among the types of conflicts that WS addresses. Wildlife is the dominant reservoir of rabies in the United States.

Since 2011, WS has been conducting field trials to study the immunogenicity and safety of an oral rabies vaccine, a human adenovirus type 5 rabies glycoprotein recombinant vaccine called ONRAB. Beginning in 2012, WS expanded field trials into portions of New Hampshire, New York, Ohio, Vermont, and new areas of West Virginia, including National Forest System lands, in order to further assess the immunogenicity of ONRAB in raccoons and skunks for raccoon rabies virus variant.

On July 9, 2019 we published in the Federal Register (84 FR 32700-32701, Docket No. APHIS-2019-0034) ¹ a notice in which we announced the availability, for public review and comment, of an environmental assessment (EA) analyzing the environmental effects of continuing and expanding the oral rabies vaccine (ORV) program using the ONRAB vaccine in Maine, New Hampshire, New York, Ohio, Tennessee, Texas, Vermont, Virginia, and West Virginia. After soliciting and reviewing comments on the EA, we issued a finding of no significant impact (FONSI) reflecting our determination that the expanded distribution of the ONRAB wildlife rabies vaccine would not have a significant impact on the quality of the human environment.

¹ The EA, Decision/FONSI, and comments we received may be viewed at https://www.regulations.gov. Enter APHIS-2019-0034 in the Search field.

Based on the ORV program's safe and successful use of the ONRAB rabies vaccine, WS is proposing to further expand ONRAB vaccine distribution to protect human and animal health. ONRAB rabies vaccine has been used experimentally in eastern Ohio as part of an ongoing field evaluation and has successfully reduced the prevalence of the raccoon rabies virus variant in the State. WS has defined a strategic 5-year programmatic goal to eliminate raccoon rabies in Ohio. In order to achieve this goal, better managing the disease in western Pennsylvania is critical. In the Pennsylvania ORV distribution zone, the program currently uses the RABORAL V-RG® rabies wildlife vaccine. However, despite historic and ongoing rabies management using the V-RG® rabies vaccine in Pennsylvania, rabies cases have persisted and contribute to a perpetual source of disease pressure into Ohio.

Accordingly, APHIS has prepared a supplemental EA in which we analyze the potential environmental impacts of expanding the ONRAB ORV program to include the Pennsylvania ORV distribution zone in which the V-RG® vaccine is currently used. The supplemental EA analyzes a number of environmental issues or concerns with the ONRAB vaccine and activities associated with the field trial, such as capture and handling animals for monitoring and surveillance purposes with regard to the proposed action.

We are making the supplemental EA available to the public for review and comment. We will consider all comments that we receive on or before the date listed under the heading DATES at the beginning of this notice.

The supplemental EA may be viewed on the Regulations.gov website or in our reading room (see ADDRESSES above for instructions for accessing Regulations.gov and information on the location and hours of the reading room). In addition, paper copies may be obtained by calling or writing to the individual listed under FOR FURTHER INFORMATION CONTACT.

The supplemental EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 28th day of June 2021.
Michael Watson,
Administrator, Animal and Plant Health Inspection Service.

[FR Doc. 2021-14442 Filed 7-6-21; 8:45 am]

BILLING CODE 3410-34-P